DEPARTMENT OF TRANSPORTATION

Federal Railroad Administration

Notice of Petition for Approval

Although not required, notice is hereby given that the Federal Railroad Administration (FRA) has received a petition for approval of a Railroad Safety Program Plan (RSPP) submitted pursuant to Title 49 Code of Federal Regulations (CFR) part 236, subpart H. The individual petition is described below, including the party seeking approval, the requisite docket number, and a brief summary of the petition.

Union Pacific Railroad

[Docket Number FRA-2006-24002]

The Union Pacific Railroad submitted a petition for approval of its RSPP Version 4.2. This RSPP is Union Pacific Railroad's strategic safety planning document for the development and implementation of Safety-Critical Processor-Based Signal and Train Control Systems or Active Highway-Rail Grade Crossing Warning Systems subject to the provisions of 49 CFR section 234.275 or 49 CFR part 236, subpart H.

Interested parties are invited to review the petition and associated documents at the following:

• Web site: http://dms.dot.gov. Follow the instructions for a simple search on the DOT electronic docket site (docket number 24002).

• DOT Central Docket Management Facility, Room PL-401 on the plaza level of the Nassif Building, 400 Seventh Street, SW., Washington, DC, between 9 a.m. and 5 p.m., Monday through Friday, except Federal holidays.

All documents in the public docket are also available for inspection and copying on the internet at the docket facility's Web site at http://dms.dot.gov.

Anyone is able to search the electronic form of all the comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, D.C. on November 20, 2006.
Grady C. Cothen, Jr.,
Deputy Associate Administrator for Safety, Standards and Program Development.

[FR Doc. E6-20177 Filed 11-28-06; 8:45 am]

BILLING CODE 4910-06-P